DEPARTMENT OF TRANSPORTATION

Federal Aviation Administration

14 CFR Part 71

[Docket No. FAA-2023-0061; Airspace Docket No. 22-ASO-10]

RIN 2120-AA66

Amendment and Revocation of VOR Federal Airways in the Eastern United States

AGENCY: Federal Aviation Administration (FAA), DOT.

ACTION: Notice of proposed rulemaking (NPRM).

SUMMARY: This action proposes to amend Very High Frequency (VHF) Omnidirectional Range (VOR) Federal Airways V-51, V-115, V-243, V-267, V-311, V-333, and V-415; and to revoke V-463 in support of the FAA's VOR Minimum Operational Network (MON) Program.

DATES: Comments must be received on or before March 9, 2023.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2023-0061; Airspace Docket No. 22-ASO-10 at the beginning of your comments. You may also submit comments through the internet at www.regulations.gov.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2023-0061; Airspace Docket No. 22-ASO-10) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2023-0061; Airspace Docket No. 22-ASO-10.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Avenue, College Park, GA 30337.

Availability and Summary of Documents for Incorporation by Reference

This document proposes to amend FAA Order JO 7400.11G, Airspace Designations and Reporting Points, dated August 19, 2022, and effective September 15, 2022. FAA Order JO 7400.11G is publicly available as listed in the ADDRESSES section of this proposed rule. FAA Order JO 7400.11G lists Class A, B, C, D, and E airspace areas, air traffic service routes, and reporting points.

The Proposal

The FAA is proposing an amendment to 14 CFR part 71 to amend VOR Federal Airways V-51, V-115, V-243, V-267, V-311, V-333, and V-415; and to revoke V-463 in support of the FAA's VOR Minimum Operational Network (MON) Program. This program aims to improve the efficiency of the National Airspace System by transitioning from ground-based navigation systems to satellite based navigation. The proposed changes are described below.

V-51: V-51 consists of two parts: From Pahokee, FL to Louisville, KY; and from Shelbyville, IN, to Chicago Heights, IL. The FAA proposes to remove Alma, GA; Athens, GA; and Harris, GA, from the route. As a result, V-51 would consists of three parts: From Pahokee, FL, to Craig, FL; and from Hinch Mountain, TN, to Louisville, KY; and from Shelbyville, TN to Chicago Heights, IL.

V-115: V-115 consists of two parts: From Crestview, FL, to Volunteer, TN; and from Charleston, WV, to Parkersburg, WV. The FAA proposes to remove the segment from the BOAZE, AL, Fix to the Choo Choo, TN (GQO), VHF Omnidirectional Range and Tactical Air Navigational System (VORTAC), to the DUBBS, TN, Fix, which is dependent on the Choo Choo, TN, VORTAC. As amended, V-115 would extend, in three parts: From Crestview, FL, to the intersection of the of the Vulcan, AL 048°(T)/046°(M) and the Gadsden, AL 333°(T)/331°(M) radials (the charted BOAZE, AL) Fix; from the Intersection of the Hinch Mountain, TN 160°(T)/162°(M) and the Volunteer, TN 228°(T)/231°(M) radials to Volunteer; and from Charleston, WV, to Parkersburg, WV.

V-243: V-243 extends from Craig, FL, to Choo Choo, TN. This action would remove the segment from the intersection of the LaGrange, GA 342° and the Choo Choo, TN 189° radials (the charted HEFIN, AL, Fix) to Choo Choo due to the planned decommissioning of the Choo Choo, TN (GQO), VORTAC. The HEFIN Fix would be redefined by replacing the Choo Choo radial with the Gadsden, AL, Non-Directional Beacon/Distance Measuring Equipment (NDB/DME) 124°(T)/122°(M) radial. Because this is a new radial, both True and Magnetic values are cited in the NPRM. As amended, V-243 would extend from Craig, FL, to the intersection of the LaGrange, GA 342° and the Gadsden, AL, 124°(T)/122°(M) radials (the HEFIN, AL, Fix).

V-267: V-267 extends from Dolphin, FL, to Volunteer, TN. This action proposes to remove the segments from Dolphin, FL, to Pahokee, FL. In addition, the Harris, GA (HRS), VORTAC and the Volunteer, TN (VXV), VORTAC would be removed from the route. As amended, V-267 would extend from Orlando, FL, to the charted CORCE, GA, Fix. The CORCE Fix is currently defined in the V-267 description as the intersection of the Athens, GA 340° and the Harris, GA 148° radials. Due to the removal of the Harris, GA (HRS), VORTAC, the Harris radial would be replaced in the description by the Rome, GA 077°(T)/076°(M) radial.

V-311: V-311 extends from Hinch Mountain, TN, to Charleston, SC. This action proposes to remove the segments from Electric City, SC, to Charleston, SC. As amended, V-311 would extend from Hinch Mountain, TN, to Electric City, SC.

V-333: V-333 extends from the intersection of the Rome, GA 133° and the Gadsden, AL 091° radials to Lexington, KY. The action would remove the Choo Choo, TN (GQO), VORTAC from the route. As amended, V-333 would consist of two parts: From the intersection of the Rome, GA, and Gadsden, AL, radials identified in the previous sentence to Rome, GA; and from Hinch, Mountain, TN, to Lexington, KY.

V-415: V-415 extends from Montgomery, AL, to the intersection of the Spartanburg, SC, 101° and the Charlotte, NC, 229° radials. This action proposes to remove the segments from the HEFIN, AL, Fix, to the NELLO, GA, Fix. As amended, V-415 would consist of two parts: From Montgomery, AL, to the intersection of the Montgomery 029°(T)/026°(M) and the Gadsden, AL, 124°(T)/122°(M) radials; and from the intersection of the Rome, GA, 060° and the Foothills, SC, 258° radials, to the intersection of the Spartanburg, SC, 101° and the Charlotte, NC, 229° radials.

V-463: V-463 is a 49 nautical mile long route that extends from the intersection of the Harris, GA, 179° and the Foothills, SC 222° radials, to Harris, GA. The FAA proposes to remove the route to support the scheduled decommissioning of the Harris, GA (HRS), VORTAC.

Domestic VOR Federal airways are published in paragraph 6010(a) of FAA Order JO 7400.11G, dated August 19, 2022, and effective September 15, 2022, which is incorporated by reference in 14 CFR 71.1. The VOR Federal airways listed in this document would be published and removed subsequently from FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-51 [Amended]

From Pahokee, FL; INT Pahokee 010°and Treasure, FL, 193° radials; Treasure; INT Treasure 330° and Ormond Beach, FL, 183° radials; Ormond Beach; to Craig, FL. From Hinch Mountain, TN; Livingston, TN; to Louisville, KY. From Shelbyville, IN; INT Shelbyville 313° and Boiler, IN, 136° radials; Boiler; to Chicago Heights, IL.

* * * * *

V-115 [Amended]

From Crestview, FL; INT Crestview 001° and Montgomery, AL, 204° radials; Montgomery INT Montgomery 323° and Vulcan, AL, 177° radials; Vulcan; to INT Vulcan 048°(T)/046°(M) and Gadsden, AL 333°(T)/331°(M) radials. From INT Hinch Mountain, TN, 160°(T)/162°(M) and Volunteer, TN, 228°(T)/231°(M) radials; to Volunteer. From Charleston, WV; to Parkersburg, WV.

* * * * *

V-243 [Amended]

From Craig, FL; Waycross, GA; Vienna, GA; LaGrange, GA; to INT LaGrange 342°(T)/341°(M) and Gadsden, AL, 124°(T)/122°(M) radials.

* * * * *

V-267 [Amended]

From Orlando, FL; Craig, FL; Dublin, GA; Athens, GA; to INT Athens 340°(T)/340°(M) and Rome, GA, 077°(T)/076°(M) radials.

* * * * *

V-311 [Amended]

From Hinch Mountain, TN; INT Hinch Mountain 160° and Electric City, SC, 274° radials; to Electric City.

* * * * *

V-333 [Amended]

From INT Rome, GA, 133° and Gadsden, AL, 091° radials to Rome. From Hinch Mountain, TN; to Lexington, KY.

* * * * *

V-415 [Amended]

From Montgomery, AL, to INT Montgomery 029°T/026°M and Gadsden, AL, 124°(T)/122°(M) radials. From INT Rome 060° and Foothills, SC, 258° radials; Foothills; Spartanburg, SC; to INT Spartanburg 101° and Charlotte, NC, 229° radials.

* * * * *

V-463 [Removed]

* * * * *

Issued in Washington, DC, on February 1, 2023.
Brian Konie,
Acting Manager, Airspace Rules and Regulations.

[FR Doc. 2023-02445 Filed 2-6-23; 8:45 am]

BILLING CODE 4910-13-P